ENVIRONMENTAL PROTECTION AGENCY

[FRL-8755-3]

Pennsylvania; Adequacy Status of the 2008 Reasonable Further Progress Plan for the Pennsylvania Portion of the Philadelphia-Wilmington-Atlantic City 8-Hour Ozone Nonattainment Area Motor Vehicle Emission Budgets

AGENCY: Environmental Protection Agency (EPA).

ACTION: Notice of adequacy.

SUMMARY: In this notice, EPA is notifying the public that we have found that the Motor Vehicle Emissions Budgets (MVEBs) in the Reasonable Further Progress Plan (RFP) submitted as a State Implementation Plan (SIP) revision on August 29, 2007 by the Pennsylvania Department of Environmental Protection (PADEP), are adequate for transportation conformity purposes. As a result of EPA's finding, the Commonwealth of Pennsylvania must use the MVEBs from the August 29, 2007 RFP Plan for future conformity determinations for the 8-hour ozone standard.

DATES: These MVEBs are effective January 5, 2009.

FOR FURTHER INFORMATION CONTACT: Martin Kotsch, U.S. EPA, Region III, 1650 Arch Street, Philadelphia, PA 19103 at (215) 814-3335 or by e-mail at: kotsch.martin@EPA.gov. The finding is available at EPA's conformity Web site: http://www.epa.gov/otaq/stateresources/transconf/currsips.htm.

SUPPLEMENTARY INFORMATION: Throughout this document “we,” “us”, or “our” refer to EPA. The word “budgets” refers to the motor vehicle emission budgets for volatile organic compounds (VOCs) and nitrogen oxides (NOX ). The word “SIP” in this document refers to the RFP Plans for the Pennsylvania portion of the Philadelphia-Wilmington-Atlantic City Ozone Nonattainment Area submitted to EPA as SIP revisions on August 29, 2007.

Today's notice is simply an announcement of a finding that EPA has already made. EPA Region III sent a letter to PADEP on November 20, 2008 stating that the MVEBs in the RFP Plan are adequate for transportation conformity purposes. As a result of EPA's finding, the State of Pennsylvania must use the MVEBs from the August 29, 2007 RFP Plan for future conformity determinations for the 8-hour ozone standard. This finding has also been announced on EPA's conformity Web site: http://www.epa.gov/otaq/stateresources/transconf/pastsips.htm. The adequate MVEBs are provided in the following table:

Table 1—Pennsylvania Motor Vehicle Emissions Budgets
Nonattainment area | 2008 Reasonable Further Progress: VOC (tpd) | 2008 Reasonable Further Progress: NOX (tpd)
Philadelphia | 61.09 | 108.78

Transportation conformity is required by section 176(c) of the Clean Air Act, as amended in 1990. EPA's conformity rule requires that transportation plans, programs and projects conform to state air quality implementation plans and establishes the criteria and procedure for determining whether or not they do. Conformity to a SIP means that transportation activities will not produce new air quality violations, worsen existing violations, or delay timely attainment of the national ambient air quality standards. The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved. We have described our process for determining the adequacy of submitted SIP budgets in 40 CFR 93.118(f), and have followed this rule in making our adequacy determination.

Dated: December 5, 2008.
William T. Wisniewski,
Acting Regional Administrator, Region III.

[FR Doc. E8-30206 Filed 12-18-08; 8:45 am]

BILLING CODE 6560-50-P